DEPARTMENT OF COMMERCE

International Trade Administration

[A-570-062]

Cast Iron Soil Pipe Fittings From the People's Republic of China: Final Results of the Expedited First Sunset Review of the Antidumping Duty Order

AGENCY: Enforcement and Compliance, International Trade Administration, Department of Commerce.

SUMMARY: The U.S. Department of Commerce (Commerce) finds that revocation of the antidumping duty (AD) order on cast iron soil pipe fittings (soil pipe fittings) from the People's Republic of China (China) would be likely to lead to the continuation or recurrence of dumping at the levels indicated in the “Final Results of Sunset Review” section of this notice.

DATES: Applicable November 6, 2023.

FOR FURTHER INFORMATION CONTACT: Katherine Johnson, AD/CVD Operations, Office VIII, Enforcement and Compliance, International Trade Administration, U.S. Department of Commerce, 1401 Constitution Avenue NW, Washington, DC 20230; telephone: (202) 482-4929.

SUPPLEMENTARY INFORMATION:

Background

On August 31, 2018, Commerce published the AD order on soil pipe fittings from China.¹ On July 3, 2023, Commerce published the notice of initiation of the first sunset review of the Order, pursuant to section 751(c) of the Tariff Act of 1930, as amended (the Act).² On July 18, 2023, Commerce received a notice of intent to participate in this review from the Cast Iron Soil Pipe Institute (the domestic interested party) ³ within the deadline specified in 19 CFR 351.218(d)(1)(i).⁴ The domestic interested party claimed interested party status under section 771(9)(E) of the Act, and 19 CFR 351.102(b)(17) and (29)(vii) as a trade or business association, a majority of whose members manufacture or produce the domestic like product in the United States. On August 2, 2023, the domestic interested party provided a complete substantive response for this review within the 30-day deadline specified in 19 CFR 351.218(d)(3)(i).⁵ We received no substantive responses from any other interested parties, nor was a hearing requested. On August 22, 2023, Commerce notified the U.S. International Trade Commission (ITC) that it did not receive an adequate substantive response from respondent interested parties.⁶ As a result, pursuant to section 751(c)(3)(B) of the Act and 19 CFR 351.218(e)(1)(ii)(C)(2), Commerce conducted an expedited (120-day) sunset review of the Order.

¹ See Cast Iron Soil Pipe Fittings from the People's Republic of China: Amended Final Determination of Sales at Less Than Fair Value and Antidumping Duty Order, 83 FR 44570 (August 31, 2018) (Order).

² See Initiation of Five-Year (Sunset) Reviews, 88 FR 42688 (July 3, 2023) (Initiation Notice). In the Initiation Notice, the product is erroneously listed as “Cast Iron Soil Pipe,” but the correct case number for the Order is given.

³ The Cast Iron Soil Pipe Institute's members are Charlotte Pipe & Foundry and McWane, Inc., the parent company of AB&I Foundry and Tyler Pipe, both of which were domestic producers of soil pipe fittings during the sunset period of review.

⁴ See Domestic Interested Party's Letter, “Notice of Intent to Participate in the First Five-Year Review,” dated July 18, 2023.

⁵ See Domestic Interested Party's Letter, “Petitioner's Substantive Response to the Notice of Initiation,” dated August 2, 2023.

⁶ See Commerce's Letter, “Sunset Reviews for July 2023,” dated August 22, 2023.

Scope of the Order

The merchandise covered by the Order is cast iron soil pipe fittings, finished and unfinished, regardless of industry or proprietary specifications, and regardless of size. The subject merchandise is currently provided for in item 7307.11.0045 of the Harmonized Tariff Schedule of the United States (HTSUS). Subject merchandise may also enter under HTSUS 7324.29.0000 and 7307.92.3010. Although the HTSUS subheadings are provided for convenience and customs purposes, the written description of the merchandise is dispositive. For a full description of the scope of the Order, see the Issues and Decision Memorandum.⁷

⁷ See Memorandum, “Issues and Decision Memorandum for the Final Results of the Expedited First Sunset Review of the Antidumping Duty Order on Cast Iron Soil Pipe Fittings from the People's Republic of China,” dated concurrently with, and hereby adopted by, this notice (Issues and Decision Memorandum).

Analysis of Comments Received

All issues raised in this review, including the likelihood of continuation or recurrence of dumping in the event of revocation of the Order and the magnitude of the margins likely to prevail if the Order were revoked, are addressed in the accompanying Issues and Decision Memorandum.⁸ A list of topics discussed in the Issues and Decision Memorandum is included as an appendix to this notice. The Issues and Decision Memorandum is a public document and is on file electronically via Enforcement and Compliance's Antidumping and Countervailing Duty Centralized Electronic Service System (ACCESS). ACCESS is available to registered users at https://access.trade.gov. A complete version of the Issues and Decision Memorandum can be accessed directly at https://access.trade.gov/public/FRNoticesListLayout.aspx.

⁸ Id.

Final Results of Sunset Review

Pursuant to sections 751(c)(1) and 752(c)(1) and (3) of the Act, Commerce determines that revocation of the Order would be likely to lead to continuation or recurrence of dumping, and that the magnitude of the margin likely to prevail would be up to 360.30 percent.

Administrative Protective Order

This notice serves as the only reminder to interested parties subject to an administrative protective order (APO) of their responsibility concerning the return or destruction of proprietary information disclosed under APO in accordance with 19 CFR 351.305. Timely written notification of the return or destruction of APO materials or conversion to judicial protective order is hereby requested. Failure to comply with the regulations and terms of an APO is a violation which is subject to sanction.

Notification to Interested Parties

We are issuing and publishing these final results and notice in accordance with sections 751(c), 752(c), and 777(i)(1) of the Act and 19 CFR 351.218.

Dated: October 31, 2023.
Lisa W. Wang,
Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margin of Dumping Likely To Prevail

VII. Final Results of Sunset Review

VIII. Recommendation

[FR Doc. 2023-24477 Filed 11-3-23; 8:45 am]

BILLING CODE 3510-DS-P